DEPARTMENT OF HOMELAND SECURITY

[Docket No. CISA-2020-0003]

Notice of President's National Security Telecommunications Advisory Committee Meeting

AGENCY: Cybersecurity and Infrastructure Security Agency (CISA), Department of Homeland Security (DHS).

ACTION: Notice of Federal Advisory Committee Act (FACA) meeting; request for comments.

SUMMARY: CISA is publishing this notice to announce the following President's National Security Telecommunications Advisory Committee (NSTAC) meeting. This meeting will be partially closed to the public.

DATES:

Meeting Registration: Registration to attend the meeting is required and must be received no later than 5:00 p.m. Eastern Time (ET) on May 6, 2020. For more information on how to participate, please contact NSTAC@hq.dhs.gov.

Speaker Registration: Registration to speak during the meeting's public comment period must be received no later than 5:00 p.m. ET on May 6, 2020.

Written Comments: Written comments must be received no later than 5:00 p.m. ET on May 6, 2020.

Meeting Date: The NSTAC will meet on May 13, 2020, from 12:00 p.m. to 2:30 p.m. ET. The meeting may close early if the committee has completed its business.

ADDRESSES: The meeting will be held via conference call. For access to the conference call bridge, information on services for individuals with disabilities, or to request special assistance, please email NSTAC@hq.dhs.gov by 5:00 p.m. ET on May 6, 2020.

Comments: Members of the public are invited to provide comment on the issues that will be considered by the committee as listed in the SUPPLEMENTARY INFORMATION section below. Associated materials that participants may discuss during the meeting will be available at https://www.cisa.gov/national-security-telecommunications-advisory-committee for review on April 28, 2020. Comments may be submitted by 5:00 p.m. ET on May 6, 2020 and must be identified by Docket Number CISA-2020-0003. Comments may be submitted by one of the following methods:

• Federal eRulemaking Portal: www.regulations.gov. Please follow the instructions for submitting written comments.

• Email: NSTAC@hq.dhs.gov. Include the Docket Number CISA-2020-0003 in the subject line of the email.

Instructions: All submissions received must include the words “Department of Homeland Security” and the Docket Number for this action. Comments received will be posted without alteration to www.regulations.gov, including any personal information provided.

Docket: For access to the docket and comments received by the NSTAC, please go to www.regulations.gov and enter docket number CISA-2020-0003.

A public comment period will be held during the meeting from 1:50 p.m. to 2:00 p.m. ET. Speakers who wish to participate in the public comment period must register by emailing NSTAC@hq.dhs.gov. Speakers are requested to limit their comments to three minutes and will speak in order of registration. Please note that the public comment period may end before the time indicated, following the last request for comments.

FOR FURTHER INFORMATION CONTACT: Helen Jackson, (703) 705-6276, helen.jackson@cisa.dhs.gov.

SUPPLEMENTARY INFORMATION: The NSTAC was established by Executive Order (E.O.) 12382, 47 FR 40531 (September 13, 1982), as amended and continued under the authority of E.O. 13889, dated September 27, 2019. Notice of this meeting is given under FACA, 5 U.S.C. Appendix (Pub. L. 92-463). The NSTAC advises the President on matters related to national security and emergency preparedness (NS/EP) telecommunications and cybersecurity policy.

Agenda: The NSTAC will hold a conference call on Wednesday, May 13, 2020, to discuss current NSTAC activities pertinent to Government cybersecurity initiatives and NS/EP priorities with senior Government officials. During the meeting, NSTAC members will also: (1) Receive a status update from the NSTAC Software-Defined Networking Subcommittee; and (2) evaluate potential future NSTAC study topics.

Basis for Closure: In accordance with section 10(d) of FACA and The Government in the Sunshine Act (5 U.S.C. 552b(c)(9)(B)), it has been determined that certain agenda items require closure, as the disclosure of the information that will be discussed would not be in the public interest.

The committee will meet in a closed session from 12:00 p.m. to 1:20 p.m. Participants will engage in discussions on the: (1) Impact of pandemics on the information and communications technology (ICT) ecosystem and communications resiliency; and (2) Federal Government efforts concerning fifth generation (5G) technologies. For these items, Government officials will share data with NSTAC members on ongoing NS/EP, cybersecurity, and communications resiliency initiatives across the public and private sectors. The information discussed will include specific vulnerabilities that affect the United States' ICT/5G infrastructures and proposed mitigation strategies. The premature disclosure of this information to the public would be likely to significantly frustrate implementation of proposed agency action. Therefore, this portion of the meeting is required to be closed pursuant to section 10(d) of FACA and The Government in the Sunshine Act (5 U.S.C. 552b(c)(9)(B)).

Helen Jackson,
Designated Federal Officer, NSTAC.

[FR Doc. 2020-08427 Filed 4-20-20; 8:45 am]

BILLING CODE 9110-9P-P